DEPARTMENT OF HEALTH AND HUMAN SERVICES

Centers for Disease Control and Prevention

[60Day-11-11EX]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Daniel L. Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of Enhanced Implementation of the “Learn the Signs. Act Early.” Campaign in 4 Target Sites,—New—National Center on Birth Defects and Developmental Disabilities (NCBDDD), Centers for Disease Control and Prevention (CDC).

Background and Brief Description

CDC's “Learn the Signs Act Early” campaign is a health education campaign that aims to improve parent awareness of early child development and improve early identification of children with autism spectrum disorders and other developmental disabilities. The proposed information collection activity will allow necessary evaluation of the supplemental program to determine if the program has achieved its intended goals; to identify efficient implementation strategies that reach the greatest numbers of parents of young children within defined population groups; and determine the effectiveness of those strategies in changing parents' awareness of the campaign and behavior related to monitoring early development.

This information collection activity will consist of two surveys of parents of young children in the demographic groups and geographic areas targeted by this enhanced implementation of the “Learn the Signs Act Early” campaign; one at baseline (before campaign implementation) and one at follow-up (near implementation end). The surveys will capture information from the program's target audience to determine campaign reach and exposure among this group, as well as identify change in knowledge, awareness, and behavior related to the campaign and monitoring early child development. The project aims to attain 250 completed parent surveys from each of the 4 sites at baseline and again at follow-up (for a total of 2,000 completed surveys). It is estimated that 2400 respondents will have to be screened in order to recruit 2000 total survey participants.

Participants will be recruited to participate in one of two surveys that will be conducted in the following four target areas: Washington: Yakima, Benton, Franklin, and Walla Walla counties; Missouri: St. Louis City; Utah: Salt Lake County; and Alaska: Anchorage, Palmer, Wasilla, Homer, Kenai.

This request is to obtain OMB clearance for two years. There are no costs to the respondents other than their time.

Estimated Annualized Burden Hours
Type of respondent | Form name | Number of respondents | Number of responses per respondent | Average burden per response (in hours) | Total burden (in hours)
Parents | Screener | 2400 | 1 | 3/60 | 120
Parents | Baseline Survey | 1000 | 1 | 10/60 | 167
Parents | Follow-up Survey | 1000 | 1 | 10/60 | 167
Total |  |  |  |  | 454

Dated: May 5, 2011.
Daniel L. Holcomb,
Reports Clearance Officer, Centers for Disease Control and Prevention.

[FR Doc. 2011-11520 Filed 5-10-11; 8:45 am]

BILLING CODE 4163-18-P